DEPARTMENT OF TRANSPORTATION

Surface Transportation Board

[STB Finance Docket No. 34269]

RailAmerica, Inc., et al.—Control and Merger Exemption—A&R Line, Inc., and J.K. Line, Inc.

AGENCY: Surface Transportation Board.

ACTION: Notice of exemption.

SUMMARY: The Board grants an exemption under 49 U.S.C. 10502 from the prior approval requirements of 49 U.S.C. 11323-25 for noncarrier RailAmerica, Inc., et al., to acquire control of A&R Line, Inc. (A&R Line), and J.K. Line, Inc. (J.K. Line), two wholly owned Class III railroad subsidiaries of Cargill, Incorporated, and to merge A&R Line and J.K. Line into the Toledo, Peoria & Western Railway Corporation, subject to the employee protective conditions described in Wisconsin Central Ltd.—Acquisition Exem.—Union Pac. RR, 2 S.T.B. 218 (1997).

DATES: This exemption will be effective on December 31, 2002. Petitions to stay must be filed by December 23, 2002. Petitions to reopen must be filed by December 27, 2002.

ADDRESSES: An original and 10 copies of all pleadings, referring to STB Finance Docket No. 34269, must be filed with the Surface Transportation Board, 1925 K Street, NW., Washington, DC 20423-0001. In addition, one copy of all pleadings must be served on petitioners' representative, Louis E. Gitomer, Esq., Ball Janik LLP, 1455 F Street, NW., Suite 225, Washington, DC 20005.

FOR FURTHER INFORMATION CONTACT: Beryl Gordon, (202) 565-1600. [Assistance for the hearing impaired is available through the Federal Information Relay Service (FIRS) at 1-800-877-8339.]

SUPPLEMENTARY INFORMATION: Additional information is contained in the Board's decision. Copies of the decision may be purchased from Dā 2 DāLegal Copy Service by calling (202) 293-7776 (assistance for the hearing impaired is available through FIRS at 1-800-877-8339) or by visiting Suite 405, 1925 K Street, NW., Washington, DC 20006.

Board decisions and notices are available on our Web site at http://www.stb.dot.gov.

Decided: December 11, 2002.
By the Board, Chairman Nober, Vice Chairman Burkes, and Commissioner Morgan.
Vernon A. Williams,
Secretary.

[FR Doc. 02-31683 Filed 12-16-02; 8:45 am]

BILLING CODE 4915-00-P